DEPARTMENT OF ENERGY

Federal Energy Regulatory Commission

[Project No. 1888-027]

York Haven Power Company, LLC; Notice of Dispute Resolution Panel Meeting and Technical Conference

May 24, 2010.

On May 19, 2010, Commission staff, in response to the filing of a notice of study dispute by the Pennsylvania Department of Environmental Protection on April 29, 2010, convened a single three-person Dispute Resolution Panel (Panel) pursuant to 18 CFR 5.14(d).

The Panel will hold a technical conference at the time and place noted below. The technical conference will address a dispute pertaining to the study of resident fish passage at the York Haven East Channel Fishway.

The purpose of the technical session is for the disputing agencies, applicants, and Commission to provide the Panel with additional information necessary to evaluate the disputed study. All local, State, and Federal agencies, Indian Tribes, and other interested parties are invited to attend the meeting as observers. The Panel may also request information or clarification on written submissions as necessary to understand the matters in dispute. The Panel will limit all input that it receives to the specific studies or information in dispute and will focus on the applicability of such studies or information to the study criteria stipulated in 18 CFR 5.9(b). If the number of participants wishing to speak creates time constraints, the Panel may, at their discretion, limit the speaking time for each participant.

Technical Conference

Date: Monday, June 14, 2010.

Time: 1 p.m.-5 p.m. (EDT)

Place: Harrisburg Holiday Inn and Conference Center, I-83 & PA Turnpike, Exit 242, New Cumberland, PA.

Kimberly D. Bose,
Secretary.

[FR Doc. 2010-12992 Filed 5-28-10; 8:45 am]

BILLING CODE 6717-01-P